DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the “Fund”), within the Department of the Treasury, is soliciting comments concerning the Native American CDFI Development (NACD) Program Application.

DATES: Written comments should be received on or before June 2, 2003, to be assured of consideration.

ADDRESSES: Direct all written comments to Linda G. Davenport, Acting Deputy Director for Policy and Programs, Community Development Financial Institutions Fund, U.S. Department of the Treasury, 601 13th Street, NW., Suite 200 South, Washington, DC 20005, Facsimile Number (202) 622-7754.

FOR FURTHER INFORMATION CONTACT: The NACD Program Application may be obtained from the Fund's Web site at http://www.cdfifund.gov. Requests for additional information should be directed to: Linda G. Davenport, Acting Deputy Director for Policy and Programs, Community Development Financial Institutions Fund, U.S. Department of the Treasury, 601 13th Street, NW., Suite 200 South, Washington, DC 20005; or by phone to (202) 622-8662.

SUPPLEMENTARY INFORMATION: Title: Native American CDFI Development (NACD) Program Application.

OMB Number: 1559-0013.

Abstract: The Department of Veterans Affairs and Housing and Urban Development, and Independent Agencies Appropriations Act, 2001 (Pub. L. 106-377) authorizes the Fund to provide technical assistance (TA) to promote economic development in Native American, Alaska Native and/or Native Hawaiian communities by creating new CDFIs or building the capacity of existing CDFIs that serve Native American, Alaska Native or Native Hawaiian communities. The Consolidated Appropriations Resolution, 2003 (Pub. L. 108-7) authorizes the Fund to provide financial assistance, technical assistance and training programs to benefit Native American, Alaska Native, and Native Hawaiian communities in the coordination of community development strategies designed to increase access to equity investments and loans for development activities.

The NACD Program specifically provides TA to two categories of entities that propose to establish a new CDFI(s) that will serve a Native American, Alaska Native or Native Hawaiian population(s): Category (1) including Tribes, Tribal Entities, or Non-Profit Organizations that primarily serve Native American and Alaska Native and/or Native Hawaiian populations; and Category (2) including TA providers or other suitable providers.

Current Action: Currently receiving applications.

Type of Review: Extension.

Affected Public: Not-for-profit institutions; State, local or tribal government and tribal entities; and businesses or other for-profit institutions.

Estimated Number of Respondents: 40.

Estimated Annual Time Per Respondent: 65 hours.

Estimated Total Annual Burden Hours: 2,600 hours.

Request for Comments: Comments submitted in response to this notice will be summarized and/or included in the request for OMB approval. All comments will become a matter of public record. Comments are invited on: (a) Whether the collection of information is necessary for the proper performance of the functions of the Fund, including whether the information shall have practical utility; (b) the accuracy of the Fund's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Authority: Pub. L. 106-377; Pub. L. 108-7.

Dated: March 28, 2003.
Tony T. Brown,
Director, Community Development Financial Institutions Fund.

[FR Doc. 03-8148 Filed 4-2-03; 8:45 am]

BILLING CODE 4810-70-P